DEPARTMENT OF THE INTERIOR

National Park Service

[NPS-WASO-NRNHL-21559; PPWOCRADI0, PCU00RP14.R50000]

National Register of Historic Places; Notification of Pending Nominations and Related Actions

AGENCY: National Park Service, Interior.

ACTION: Notice.

SUMMARY: The National Park Service is soliciting comments on the significance of properties nominated before July 16, 2016, for listing or related actions in the National Register of Historic Places.

DATES: Comments should be submitted by August 25, 2016.

ADDRESSES: Comments may be sent via U.S. Postal Service to the National Register of Historic Places, National Park Service, 1849 C St. NW., MS 2280, Washington, DC 20240; by all other carriers, National Register of Historic Places, National Park Service, 1201 Eye St. NW., 8th floor, Washington, DC 20005; or by fax, 202-371-6447.

SUPPLEMENTARY INFORMATION: The properties listed in this notice are being considered for listing or related actions in the National Register of Historic Places. Nominations for their consideration were received by the National Park Service before July 16, 2016. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

MASSACHUSETTS

Bristol County

Rhodes, M.M. and Sons Co., 12 Porter St., Taunton, 16000570

PENNSYLVANIA

Bucks County

Perkasie Park Camp Meeting, 200 S. 9th St., Perkasie, 16000571

Philadelphia County

Progress Lighting Manufacturing Company, 1401-1409 Germantown Ave., Philadelphia, 16000572

Pike County

Paupack School, 545 PA 507, Palmyra Township, 16000573

TEXAS

Harris County

Southwestern Bell Capitol Main Office, 1121 Capitol St. & 1114 Texas Ave., Houston, 16000574

WISCONSIN

Rock County

Haven—Crandall House, 220 S. Janesville St., Milton, 16000575

Authority: 60.13 of 36 CFR part 60.

Dated: July 18, 2016.
J. Paul Loether,
Chief, National Register of Historic Places/National Historic Landmarks Program.

[FR Doc. 2016-18930 Filed 8-9-16; 8:45 am]

BILLING CODE 4312-51-P